DEPARTMENT OF HEALTH AND HUMAN SERVICES

National Toxicology Program (NTP); Report on Carcinogens Review Process for the 12th Report on Carcinogens (RoC)

AGENCY: National Institute of Environmental Health Sciences (NIEHS), National Institutes of Health (NIH), Department of Health and Human Services.

ACTION: Notice.

SUMMARY: The NTP announces its scientific review process to review nominations for the 12th RoC. The process is available on the NTP Web site http://ntp.niehs.nih.gov (select “Report on Carcinogens”) or by contacting Dr. C.W. Jameson at the address provided below.

ADDRESSES: All correspondence should be directed to Dr. C.W. Jameson, National Toxicology Program, Report on Carcinogens, 79 Alexander Drive, Building 4401, Room 3118, P.O. Box 12233, Research Triangle Park, NC 27709; telephone: (919) 541-4096, fax: (919) 541-0144, e-mail: jameson@niehs.nih.gov.

SUPPLEMENTARY INFORMATION:

Background

On August 17, 2006, the NTP released its draft review process applicable for nominations to the 12th RoC (71 FR 47507) and invited public comment. The NTP considered all comments received and now announces the final RoC review process for the 12th RoC. Two important elements in the RoC review process are (1) the public peer review of draft background documents by ad hoc scientific expert panels and (2) the public peer review of draft substance profiles by the NTP Board of Scientific Counselors. In addition, the NTP will also, on a trial basis, prepare a response to public comments for the 12th RoC. The RoC review process is described in more detail on the NTP Web site (http://ntp.niehs.nih.gov/ select “Report on Carcinogens”).

Background Information on the Report on Carcinogens

The RoC is a congressionally mandated document (Section 301(b)(4) of the Public Health Services Act, 42 U.S.C. 241(b)(4)), published by the Secretary of Health and Human Services (HHS), that identifies agents, substances, mixtures, or exposure circumstances (collectively referred to as “substances”) that may pose a carcinogenic hazard to human health. The Secretary, HHS, has delegated responsibility for preparing the draft report to the NTP. Substances are listed in the RoC as either known to be a human carcinogen or reasonably anticipated to be a human carcinogen. Review of nominations involves a multi-step scientific review process with opportunity for public comment. At the end of this process, NTP forwards a draft RoC to the Secretary for review, approval, and transmittal to Congress and the public.

The NTP solicits and encourages the broadest participation from interested individuals or parties in nominating substances for review for future RoCs. Nominations should contain a rationale for review. Appropriate background information and relevant data [e.g., journal articles, NTP Technical Reports, International Agency for Research on Cancer (IARC) listings, exposure surveys, release inventories, etc.] that support the review of a nomination should be provided or referenced when possible. Contact information for the nominator should also be included [name, affiliation (if any), address, telephone, fax, and e-mail].

Dated: March 19, 2007.
David A. Schwartz,
Director, National Institute of Environmental Health Science and National Toxicology Program.

[FR Doc. E7-7111 Filed 4-13-07; 8:45 am]

BILLING CODE 4140-01-P